DEPARTMENT OF THE INTERIOR

National Park Service

[NPS-SERO-RTCA-26991; PPMPSPD1T.Y00000; PPSESERO10]

Wekiva River System Advisory Management Committee Notice of 2019 Public Meetings

AGENCY: National Park Service, Interior.

ACTION: Meeting notice.

SUMMARY: In accordance with the Federal Advisory Committee Act of 1972, the National Park Service (NPS) is hereby giving notice that the Wekiva River System Advisory Management Committee (Committee) will meet as indicated below.

DATES: The Committee will meet on: Wednesday, March 27, 2019; Wednesday, May 8, 2019; Wednesday, July 10, 2019; Wednesday, September 18, 2019; and Wednesday, November 13, 2019. All scheduled meetings will begin at 2 p.m. and will end by 4 p.m. (EASTERN).

ADDRESSES: The July 10, 2019, meeting will be held in the city administration conference room at 120 E. Main Street, Apopka, Florida 32703. All other meetings will be held in the recreation hall at 1800 Wekiwa Circle, Wekiwa Springs State Park, Apopka, Florida 32712.

FOR FURTHER INFORMATION CONTACT: Jaime Doubek-Racine, Community Planner and Designated Federal Officer, Rivers, Trails, and Conservation Assistance Program, Florida Field Office, Southeast Region, 5342 Clark Road, PMB #123, Sarasota, Florida 34233, telephone (941) 321-1810 or email jamie_doubek_rancine@nps.gov.

SUPPLEMENTARY INFORMATION: The Committee was established under section 5 of Public Law 106-299 to assist in the development of the comprehensive management plan for the Wekiva River System and provide advice to the Secretary of the Interior in carrying out management responsibilities of the Secretary under the Wild and Scenic Rivers Act (16 U.S.C. 1271 et seq.).

Purpose of the Meeting: Each meeting will result in decisions and steps that advance the Committee towards its objective of managing and implementing projects developed from the comprehensive management plan for the Wekiva Wild and Scenic River. Topics will include the development of the Paddle Wekiva Guide and Map Edition II, and the implementation of a new access and launch point, specifically at Lake Norris, a tributary to the Wekiva Wild and Scenic River System. All meetings are open to the public. Detailed agendas for each meeting will be made available one week in advance of each meeting at the Committee's website: http://www.wekivawildandscenicriversystem.com/wekiva-river-system-management-advisory-committee/.

Each meeting has time allocated for hearing public comments. Depending on the number of people wishing to comment and the time available, the time for individual oral comments may be limited. Individuals who plan to attend and need special assistance, such as sign language interpretation should contact the NPS as provided above.

Any member of the public may file with the Committee a written statement concerning any issues relating to the development of the comprehensive management plan for the Wekiva Wild and Scenic River. The statement should be addressed to the Wekiva River System Advisory Management Committee, National Park Service, 5342 Clark Road, PMB #123, Sarasota, Florida 34233, or email jamie_doubek_rancine@nps.gov.

Public Disclosure of Comments: Before including your address, telephone number, email address, or other personal identifying information in your comments, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2019-04442 Filed 3-11-19; 8:45 am]

BILLING CODE 4312-52-P